DEPARTMENT OF AGRICULTURE

Farm Service Agency

Risk Management Agency; 2014 Farm Bill Implementation Listening Session

AGENCY: Farm Service Agency and Risk Management Agency, USDA.

ACTION: Notice.

SUMMARY: In preparing to implement the Agricultural Act of 2014 (commonly referred to as the 2014 Farm Bill), we are hosting a listening session for initial public input about the new programs and changes to existing programs for which the Farm Service Agency (FSA) and the Risk Management Agency (RMA) have been delegated the authority to implement. The 2014 Farm Bill is intended to maintain a strong farm safety-net, restore funding for a number of critical programs including disaster assistance that has lapsed, conserve our natural resources, and prepare the nation for the next generation of farming and agriculture. The listening session will provide an opportunity for stakeholders to voice their priorities, concerns, or requests. Examples of new programs FSA will implement include the Agriculture Risk Coverage (ARC), Price Loss Coverage (PLC), and Dairy Margin Protection Programs (MPP-Dairy). RMA will be implementing the new Supplemental Coverage Option (SCO), Stacked Income Protection Plan (STAX) for producers of upland cotton, conservation compliance requirements, and several new program revisions leading to enhanced crop insurance coverage. Instructions regarding registering for and attending the listening session are in the SUPPLEMENTARY INFORMATION section of this notice.

DATES: Listening session: The listening session will be on March 27, 2014, and will begin at 9:00 a.m. and is scheduled to end by 5:00 p.m.

Registration: You must register by March 15, 2014, to attend the listening session and to provide oral comments during the listening session.

Comments: Written comments are due by April 2, 2014.

ADDRESSES: We invite you to participate in the listening session. The listening session is open to the public. The meeting will be held in the Jefferson Auditorium of the South Building at 14th Street and Independence Ave. SW., Washington, DC 20250.

We also invite you to submit comments by any of the following methods:

• Federal eRulemaking Portal: Go to http://www.regulations.gov. Follow the online instructions for submitting comments; or

• Orally at the listening session; please also provide a written copy of your comments online as specified above or in hard copy at the listening session.

FOR FURTHER INFORMATION CONTACT: Robert Stephenson; phone: (202) 720-4019. Persons with disabilities who require alternative means for communication (Braille, large print, audio tape, etc.) should contact the USDA Target Center at (202) 720-2600 (voice and TDD).

SUPPLEMENTARY INFORMATION: On February 7, 2014, the 2014 Farm Bill (Pub. L. 113-79) was signed into law. The Secretary of Agriculture and the respective USDA agencies, including, but not limited to FSA and RMA, are working to implement the provisions of the 2014 Farm Bill as expeditiously as possible to meet the needs of producers and other stakeholders. In order to implement the provisions expeditiously and to ensure transparency, it is important to hear from stakeholders to be aware of their priorities, concerns, or requests.

FSA and RMA will hold the listening session on the following date and location. The listening session is open to the public. The stakeholders and public are invited to provide oral comments during the meeting on March 27, 2014. A written copy of the oral comments is requested. (See the ADDRESSES section above for information about submitting written comments.) In addition, written comments may be submitted by April 2, 2014. As a listening session, the focus is for FSA and RMA to hear from the public; this is not a discussion with FSA and RMA officials or a question and answer session. The purpose is to receive public input that each agency can factor into discretionary decisions that need to be made to implement the provisions of the 2014 Farm Bill.

Date | Time | Location information
March 27, 2014 | 9:00 a.m.-5:00 p.m | USDA headquarters, in the South Building, Jefferson Auditorium 14th Street and Independence Ave. SW., Washington, DC 20250.

The listening session will begin with brief opening remarks from the USDA Under Secretary for Farm and Foreign Agricultural Services. Individual speakers providing oral comments will be limited to an estimated 3-5 minutes; however, this time will be adjusted based on stakeholder interest. As noted above, we request that speakers providing oral comments also provide a written copy of their comments. (See the ADDRESSES section above for information about submitting written comments.) All stakeholders and interested members of the public are welcome to register to provide oral comments; however, due to the time constraints a limited number will be selected on a first come, first serve basis.

The purpose of the listening session is for FSA and RMA to hear from stakeholders and other interested members of the public about the programs that are being implemented or revised by FSA or RMA as required by the 2014 Farm Bill. Please refer to the name of the FSA or RMA program in your comment and the relevant section number in the 2014 Farm Bill. In your comments, provide your input about the program, changes, outreach, education, tools, and anything else that may be helpful for us as we implement the new programs and changes. The following list of programs that span multiple sections in the 2014 Farm Bill or program names that may not be obvious from the section title include:

• New ARC and PLC Programs (2014 Farm Bill sections 1111-1118);

• Revised MAL and LDP for 2015 and subsequent crops and the extension of the Sugar Program and the related Feedstock Flexibility Program (2014 Farm Bill sections 1201-1210, 1301, and 9009);

• New MPP-Dairy and the new Dairy Product Donation Program (2014 Farm Bill sections 1401-1422, 1425, and 1431);

• Revised disaster assistance programs for 2015 and subsequent crops, including the Livestock Indemnity Program (LIP), the Livestock Forage Disaster Program (LFP), the Emergency Assistance for Livestock, Honeybees, and Farm-Raised Fish Program (ELAP), and the Tree Assistance Program (TAP) (2014 Farm Bill section 1501);

• Common provisions for payment limits & payment eligibility for 2015 and subsequent crops (2014 Farm Bill sections 1603 and 1605);

• Actively engaged requirements for payment eligibility (2014 Farm Bill section 1604);

• Highly erodible land and wetland conservation for crop insurance (2014 Farm Bill section 2611); and

• New SCO and STAX programs (2014 Farm Bill sections 11003 and 11017).

To identify the section numbers for your comments and to find the relevant text for FSA and RMA programs in the 2014 Farm Bill, which is available on the FSA Farm Bill Web page (http://www.fsa.usda.gov/farmbill), the following is an excerpt from the 2014 Farm Bill Table of Contents that focuses on the sections for the FSA and RMA programs:

Agricultural Act of 2014

Title I—Commodities

Subtitle A—Repeals and Reforms

Part II—Commodity Policy

Sec. 1111. Definitions.

Sec. 1112. Base acres.

Sec. 1113. Payment yields.

Sec. 1114. Payment acres.

Sec. 1115. Producer election.

Sec. 1116. Price loss coverage.

Sec. 1117. Agriculture risk coverage.

Sec. 1118. Producer agreements.

Sec. 1119. Transition assistance for producers of upland cotton.

Subtitle B—Marketing Loans

Sec. 1201. Availability of nonrecourse marketing assistance loans for loan commodities.

Sec. 1202. Loan rates for nonrecourse marketing assistance loans.

Sec. 1203. Term of loans.

Sec. 1204. Repayment of loans.

Sec. 1205. Loan deficiency payments.

Sec. 1206. Payments in lieu of loan deficiency payments for grazed acreage.

Sec. 1207. Special marketing loan provisions for upland cotton.

Sec. 1208. Special competitive provisions for extra long staple cotton.

Sec. 1209. Availability of recourse loans for high moisture feed grains and seed cotton.

Sec. 1210. Adjustments of loans.

Subtitle C—Sugar

Sec. 1301. Sugar policy.

Subtitle D—Dairy

Part I—Margin Protection Program for Dairy Producers

Sec. 1401. Definitions.

Sec. 1402. Calculation of average feed cost and actual dairy production margins.

Sec. 1403. Establishment of margin protection program for dairy producers.

Sec. 1404. Participation of dairy operations in margin protection program.

Sec. 1405. Production history of participating dairy operations.

Sec. 1406. Margin protection payments.

Sec. 1407. Premiums for margin protection program.

Sec. 1408. Effect of failure to pay administrative fees or premiums.

Sec. 1409. Duration.

Sec. 1410. Administration and enforcement.

Part II—Repeal or Reauthorization of Other Dairy-Related Provisions

Sec. 1421. Repeal of dairy product price support program.

Sec. 1422. Temporary continuation and eventual repeal of milk income loss contract program.

Sec. 1423. Repeal of dairy export incentive program.

Sec. 1424. Extension of dairy forward pricing program.

Sec. 1425. Extension of dairy indemnity program.

Sec. 1426. Extension of dairy promotion and research program.

Sec. 1427. Repeal of Federal Milk Marketing Order Review Commission.

Part III—Dairy Product Donation Program

Sec. 1431. Dairy product donation program.

Subtitle E—Supplemental Agricultural Disaster Assistance Programs

Sec. 1501. Supplemental agricultural disaster assistance.

Subtitle F—Administration

Sec. 1601. Administration generally.

Sec. 1603. Payment limitations.

Sec. 1604. Rulemaking related to significant contribution for active personal management.

Sec. 1605. Adjusted gross income limitation.

Sec. 1606. Geographically disadvantaged farmers and ranchers.

Sec. 1607. Personal liability of producers for deficiencies.

Sec. 1608. Prevention of deceased individuals receiving payments under farm commodity programs.

Sec. 1609. Technical corrections.

Sec. 1610. Appeals.

Sec. 1612. Tracking of benefits.

Sec. 1613. Signature authority.

Sec. 1614. Implementation.

Sec. 1615. Research option.

Title II—Conservation

Subtitle A—Conservation Reserve Program

Sec. 2001. Extension and enrollment requirements of conservation reserve program.

Sec. 2002. Farmable wetland program.

Sec. 2003. Duties of owners and operators.

Sec. 2004. Duties of the Secretary.

Sec. 2005. Payments.

Sec. 2006. Contract requirements.

Sec. 2007. Conversion of land subject to contract to other conserving uses.

Sec. 2008. Effect on existing contracts.

Subtitle G—Funding and Administration

Sec. 2602. Technical assistance.

Sec. 2604. Reservation of funds to provide assistance to certain farmers or ranchers for conservation access.

Sec. 2606. Administrative requirements applicable to all conservation programs.

Sec. 2609. Wetlands mitigation.

Sec. 2610. Lesser prairie-chicken conservation report.

Sec. 2611. Highly erodible land and wetland conservation for crop insurance.

Sec. 2712. Temporary administration of conservation programs.

Title V—Credit

Subtitle A—Farm Ownership Loans

Sec. 5001. Eligibility for farm ownership loans.

Subtitle B—Operating Loans

Sec. 5101. Eligibility for farm operating loans.

Sec. 5105. Valuation of local or regional crops.

Sec. 5106. Microloans.

Subtitle C—Emergency Loans

Sec. 5201. Eligibility for emergency loans.

Subtitle D—Administrative Provisions

Sec. 5302. Farmer loan pilot projects.

Subtitle E—Miscellaneous

Sec. 5402. Loans to purchasers of highly fractionated land.

Title IX—Energy

Sec. 9009. Feedstock Flexibility Program for Bioenergy Producers.

Sec. 9010. Biomass Crop Assistance Program.

Title XI—Crop Insurance

Sec. 11001. Information sharing.

Sec. 11002. Publication of information on violations of prohibition on premium adjustments.

Sec. 11003. Supplemental coverage option.

Sec. 11004. Crop margin coverage option.

Sec. 11005. Premium amounts for catastrophic risk protection.

Sec. 11006. Permanent enterprise unit subsidy.

Sec. 11007. Enterprise units for irrigated and nonirrigated crops.

Sec. 11008. Data collection.

Sec. 11009. Adjustment in actual production history to establish insurable yields.

Sec. 11010. Submission of policies and Board review and approval.

Sec. 11011. Consultation.

Sec. 11012. Budget limitations on renegotiation of the standard reinsurance agreement.

Sec. 11013. Test weight for corn.

Sec. 11014. Crop production on native sod.

Sec. 11015. Coverage levels by practice.

Sec. 11016. Beginning farmer and rancher provisions.

Sec. 11017. Stacked income protection plan for producers of upland cotton.

Sec. 11018. Peanut revenue crop insurance.

Sec. 11019. Authority to correct errors.

Sec. 11020. Implementation.

Sec. 11021. Crop insurance fraud.

Sec. 11022. Research and development priorities.

Sec. 11023. Crop insurance for organic crops.

Sec. 11024. Program compliance partnerships.

Sec. 11025. Pilot programs.

Sec. 11026. Index-based weather insurance pilot program.

Sec. 11027. Enhancing producer self-help through farm financial benchmarking.

Sec. 11028. Technical amendments.

Title XII—Miscellaneous

Subtitle B—Socially Disadvantaged Producers and Limited Resource Producers

Sec. 12204. Receipt for service or denial of service from certain department of agriculture agencies.

Subtitle C—Other Miscellaneous Provisions

Sec. 12305. Noninsured crop assistance program.

Instructions for Attending the Meeting

Space for attendance at the meeting is limited. Due to USDA headquarters security and space requirements, all persons wishing to attend the public meeting or provide oral comments to FSA and RMA during the listening session must send an email to robert.stephenson@wdc.usda.gov by March 25, 2014, to register the names of those planning to attend. Registrations will be accepted until maximum room capacity is reached. To register, provide the following information:

• First Name

• Last Name

• Organization

• Title

• Email

• City

• State

Upon arrival at the USDA South Building, registered persons must provide valid photo identification in order to enter the building; visitors need to enter the South Building through Wing 4. Please allow extra time to get through security. Additional information about the listening session, agenda, directions to get to the listening session, and how to provide comments is available at the FSA Farm Bill Web site: http://www.fsa.usda.gov/farmbill.

All written comments received will be publicly available on www.regulations.gov.

If you require special accommodations, such as a sign language interpreter, use the contact information above. The listening session location is accessible to persons with disabilities.

Signed on: March 11, 2014.
Michael T. Scuse,
Under Secretary, Farm and Foreign Agricultural Services.

[FR Doc. 2014-05710 Filed 3-12-14; 11:15 am]

BILLING CODE 3410-05-P